DEPARTMENT OF LABOR

Occupational Safety and Health Administration

Susan Harwood Training Grant Program

AGENCY: Occupational Safety and Health Administration (OSHA), Labor.

ACTION: Withdrawal of request for grant applications.

SUMMARY: Under the Susan Harwood Training Grant Program, OSHA makes two types of grants to non-profit institutions. Institutional Competency Building grants, under which the solicitation for proposals was published on August 17, 2000, at 65 FR 50220-50223, are intended to encourage the development of institutional competence in occupational safety and health issues among private, nonprofit institutions over a 3-5 year period. OSHA has also made Targeted Training grants available to nonprofit institutions to develop training sources and materials relating to specific occupational safety or health topics. Targeted Training grants typically have been one-time grants intended to fund the development of a specific training-related resource or service. OSHA is currently reassessing its priorities between these two types of grants and is considering which of these types of grants will produce the more direct and immediate impact on worker safety, and will be sustainable by OSHA in light of the funding likely to be available for longer-term grants. Accordingly, OSHA is withdrawing the August 17, 2000 solicitation for proposals under the Susan Harwood Training Grant Program, and intends to issue a new solicitation for grant proposals by nonprofit institutions in the near future.

FOR FURTHER INFORMATION CONTACT: Ronald Mouw, Deputy Director, Office of Training and Education, or Cynthia Bencheck, Program Analyst, OSHA Office of Training and Education, 1555 Time Drive, Des Plaines, Illinois 60018, telephone (847) 297-4810 (this is not a toll-free number), e-mail cindy.bencheck@osha.gov.

Signed at Washington, DC, this 12th day of April, 2001.
R. Davis Layne,
Acting Assistant Secretary of Labor.

[FR Doc. 01-9521 Filed 4-17-01; 8:45 am]

BILLING CODE 4510-26-U